DEPARTMENT OF DEFENSE

Department of the Army

Reserve Officers' Training Corps (ROTC) Program Subcommittee

AGENCY: Department of the Army, DoD.

ACTION: Notice of open meeting.

SUMMARY: In accordance with Section 10(a)(2) of the Federal Advisory Committee Act (5 U.S.C., App. 2), announcement is made of the following Committee meeting:

Name of Committee: Reserve Officers' Training Corps (ROTC) Program Subcommittee.

Dates of Meeting: July 6-7, 2005.

Location: Sheraton Tacoma Hotel, 1320 Broadway Plaza, Tacoma, Wa 98402.

Time: 0800-1700 hours, July 6, 2005; 0800-1700 hours July 7, 2005.

Proposed Agenda: Review and discuss academic accreditation agencies and procedures; development of Military Science and Leadership as a minor; incentive based scholarship initiatives; and observe ROTC cadet training at the Leadership Development and Assessment Course (LDAC), Fort Lewis, WA.

FOR FURTHER INFORMATION CONTACT: Mr. Pierre Blackwell, U.S. Army Cadet Command (ATCC-TR), Fort Monroe, VA 23651 at (757) 788-4326.

SUPPLEMENTARY INFORMATION: This meeting is open to the public. Any interested person may attend, appear before, or file statements with the committee.

Radames Cornier, Jr.,
Colonel, GS Chief of Staff.

[FR Doc. 05-12305 Filed 6-21-05; 8:45 am]

BILLING CODE 3710-08-M